DEPARTMENT OF HOMELAND SECURITY

[Docket No. CISA-2020-0006]

Notice of the President's National Infrastructure Advisory Council Meeting

AGENCY: Cybersecurity and Infrastructure Security Agency (CISA), Department of Homeland Security (DHS).

ACTION: Notice of Federal Advisory Committee Act (FACA) meeting; request for comments.

SUMMARY: CISA announces a public meeting of the President's National Infrastructure Advisory Council (NIAC). To facilitate public participation, CISA invites public comments on the agenda items and any associated briefing materials to be considered by the council at the meeting.

DATES: Meeting Registration: Individual registration to attend the meeting by phone is required and must be received no later than 5:00 p.m. EST on May 18, 2020.

Speaker Registration: Individuals may register to speak during the meeting's public comment period must be received no later than 5:00 p.m. EST on May 18, 2020.

Written Comments: Written comments must be received no later than 5:00 p.m. EST on May 18, 2020.

NIAC Meeting: The meeting will be held on Thursday, May 21, 2020 from 1:00 p.m.—4:00 p.m. ET.

ADDRESSES: The meeting will be held via conference call. For access to the conference call bridge, information on services for individuals with disabilities, or to request special assistance to participate, please email NIAC@hq.dhs.gov by 5:00 p.m. ET on May 18, 2020.

Comments: Written comments may be submitted on the issues to be considered by the NIAC as described in the SUPPLEMENTARY INFORMATION section below and any briefing materials for the meeting. Any briefing materials that will be presented at the meeting will be made publicly available before the meeting at the following website: https://www.dhs.gov/national-infrastructure-advisory-council.

Comments identified by docket number “CISA-2020-0006” may be submitted by any of the following methods:

• Federal eRulemaking Portal: www.regulations.gov. Follow the instructions for submitting written comments.

• Email: NIAC@hq.dhs.gov. Include docket number CISA-2019-0017 in the subject line of the message.

• Mail: Ginger K. Norris, Designated Federal Officer, National Infrastructure Advisory Council, Cybersecurity and Infrastructure Security Agency, Department of Homeland Security, 245 Murray Lane, Mail Stop 0612, Arlington, VA 20598-0612.

Instructions: All submissions received must include the agency name and docket number for this notice. All written comments received will be posted without alteration at www.regulations.gov, including any personal information provided. For detailed instructions on sending comments and additional information on participating in the upcoming NIAC meeting, see the “PUBLIC PARTICIPATION” heading of the SUPPLEMENTARY INFORMATION section of this document.

Docket: For access to the docket and comments received by the NIAC, go to www.regulations.gov.

FOR FURTHER INFORMATION CONTACT: Ginger K. Norris, 202-441-5885, ginger.norris@cisa.dhs.gov.

SUPPLEMENTARY INFORMATION: The NIAC is established under Section 10 of E.O. 13231 issued on October 16, 2001. Notice of this meeting is given under the Federal Advisory Committee Act (FACA), 5 U.S.C. Appendix (Pub. L. 92-463). The NIAC shall provide the President, through the Secretary of Homeland Security, with advice on the security and resilience of the Nation's critical infrastructure sectors.

The NIAC will meet in an open meeting on May 21, 2020, to discuss the following agenda items.

Agenda

I. Call to Order

II. Opening Remarks

III. CICC Study Update

IV. Work Force Panel Discussion

V. COVID-19 Panel Discussion

VI. Public Comment

VII. New NIAC Business

VIII. Closing Remarks

IX. Adjournment

Public Participation

Meeting Registration Information

Requests to attend via conference call will be accepted and processed in the order in which they are received. Individuals may register to attend the NIAC meeting by phone by sending an email to NIAC@hq.dhs.gov.

Public Comment

While this meeting is open to the public, participation in FACA deliberations are limited to council members. A public comment period will be held during the meeting from approximately 3:30 p.m.-3:45 p.m. ET. Speakers who wish to comment must register in advance and can do so by emailing NIAC@hq.dhs.gov no later than Monday, May 18, 2020, at 5:00 p.m. EST. Speakers are requested to limit their comments to three minutes. Please note that the public comment period may end before the time indicated, following the last call for comments.

Information on Services for Individuals With Disabilities

For information on facilities or services for individuals with disabilities or to request special assistance at the meeting, contact NIAC@hq.dhs.gov as soon as possible.

Ginger K. Norris,
Designated Federal Official, National Infrastructure Advisory Council, Cybersecurity and Infrastructure Security Agency, Department of Homeland Security.

[FR Doc. 2020-07851 Filed 4-13-20; 8:45 am]

BILLING CODE 9110-9P-P